DEPARTMENT OF ENERGY

Federal Energy Regulatory Commission

[Docket Nos. ER02-1656-000, ER06-615-000]

California Independent System Operator Corporation; Notice of FERC Staff Attendance

January 12, 2007.

The Federal Energy Regulatory Commission (Commission) hereby gives notice that on the following dates members of its staff will attend stakeholder meetings of the California Independent System Operator (CAISO). These meetings will be held at the CAISO, 151 Blue Ravine Road, Folsom, CA or by teleconference. The agenda and other documents for the meetings are available on the CAISO's Web site, http://www.caiso.com.

January 16, 2007

Long-Term Transmission Rights.

January 17, 2007

Systems Interface Users Group.

January 18, 2007

Transmission Maintenance Coordination Committee.

January 18, 2007

MRTU Market Simulation Phase 2.

Sponsored by the CAISO, these meetings are open to all market participants, and staff's attendance is part of the Commission's ongoing outreach efforts. The meetings may discuss matters at issue in the above captioned dockets.

For Further Information Contact: Katherine Gensler at katherine.gensler@ferc.gov; (916) 294-0275.

Magalie R. Salas,
Secretary.

[FR Doc. E7-788 Filed 1-19-07; 8:45 am]

BILLING CODE 6717-01-P